DEPARTMENT OF DEFENSE

Office of the Secretary

Advisory Council on Dependents' Education; Open Meeting Notice; Correction

AGENCY: Department of Defense Education Activity (DoDEA), DoD.

ACTION: Open meeting notice; correction.

SUMMARY: On February 28, 2012 (77 FR 12039), the Advisory Council on Dependents' Education gave notice of a meeting to be held Friday, April 20, 2012, in Vicenza, Italy, from 12 p.m. to 4 p.m., Central European Summer Time (CEST); and in Arlington, Virginia (via Video Teleconference), from 6 a.m. to 10 a.m., Eastern Daylight Time (EDT). Under the provisions of the Federal Advisory Committee Act of 1972 (5 U.S.C., Appendix, as amended), the Government in the Sunshine Act of 1976 (5 U.S.C. 552b, as amended), and 41 CFR 102-3.150, the Department of Defense announces that the meeting times have been changed. All other information in the notice remains the same.

DATES: The new meeting times are: Friday, April 20, 2012, Vicenza, Italy, from 2 p.m. to 6 p.m., Central European Summer Time (CEST); Arlington, Virginia (via Video Teleconference), from 8 a.m. to 12 p.m., Eastern Daylight Time (EDT).

ADDRESSES: Caserma Ederle, Vicenza, Italy 36100; 4040 North Fairfax Drive, Arlington, VA 22203.

FOR FURTHER INFORMATION CONTACT: Mr. Joel K. Hansen at (703) 588-3166 or Joel.Hansen@hq.dodea.edu.

Dated: April 11, 2012.
Aaron Siegel,
Alternate OSD Federal Register Liaison Officer, Department of Defense.

[FR Doc. 2012-9068 Filed 4-13-12; 8:45 am]

BILLING CODE 5001-06-P